DEPARTMENT OF LABOR

Occupational Safety and Health Administration

[Docket No. OSHA-2020-0003]

Advisory Committee on Construction Safety and Health (ACCSH): Notice of Meetings

AGENCY: Occupational Safety and Health Administration (OSHA), Labor.

ACTION: Notice of ACCSH and ACCSH Workgroup meetings postponement.

SUMMARY: The Advisory Committee on Construction Safety and Health (ACCSH) and ACCSH Workgroup meetings previously scheduled for April 28-29, 2020 are postponed. The meetings will be rescheduled and a notice will be published in the Federal Register when a meeting date is determined.

FOR FURTHER INFORMATION CONTACT: For general information about the postponement of the ACCSH meetings, contact: Scott Ketcham, Director, Directorate of Construction, OSHA, U.S. Department of Labor; telephone: (202) 693-2020; ketcham.scott@dol.gov.

Authority and Signature

Loren Sweatt, Principal Deputy Assistant Secretary of Labor for Occupational Safety and Health, authorized the preparation of this notice under the authority granted by 29 U.S.C. 655(b)(1) and 656(b), 5 U.S.C. App. 2, Secretary of Labor's Order No. 1-2012 (77 FR 3912), and 29 CFR part 1912.

Signed at Washington, DC, on April 9, 2020.
Loren Sweatt,
Principal Deputy Assistant Secretary of Labor for Occupational Safety and Health.

[FR Doc. 2020-07936 Filed 4-14-20; 8:45 am]

BILLING CODE 4510-26-P